DEPARTMENT OF TRANSPORTATION

National Highway Traffic Safety Administration

Reports, Forms, and Record Keeping Requirements Agency Information Collection Activity Under OMB Review

AGENCY: National Highway Traffic Safety Administration (NHTSA), U.S. Department of Transportation (DOT).

ACTION: Notice.

SUMMARY: In compliance with the Paperwork Reduction Act of 1995, this notice announces the Information Collection Request (ICR) abstracted below will be submitted to the Office of Management and Budget (OMB) for review and comment. The ICR describes the nature of the information collection and its expected burden. A Federal Register Notice with a 60-day comment period soliciting public comments on the following information collection was published on May 17, 2018 (83 FR 23040). NHTSA did not receive any public comments in response to the 60-day notice.

DATES: Comments must be received on or before September 7, 2018.

ADDRESSES: You may submit comments, within 30 days, to the Office of Information and Regulatory Affairs, Office of Management and Budget, 725 17th Street NW, Washington, DC 20503, Attention NHTSA Desk Officer.

FOR FURTHER INFORMATION CONTACT: Dr. Kathy Sifrit, Office of Behavioral Safety Research (NPD-320), National Highway Traffic Safety Administration, 1200 New Jersey Avenue SE, W46-472, Washington, DC 20590. Dr. Sifrit's phone number is (202) 366-0868 and her email address is kathy.sifrit@dot.gov.

SUPPLEMENTARY INFORMATION:

Title: In-Vehicle Drowsiness Detection and Alerting.

Type of Request: New information collection requirement.

Abstract: The National Highway Traffic Safety Administration (NHTSA) is seeking approval to collect information from licensed young drivers for a one-time voluntary driving simulator study of the effectiveness of in-vehicle drowsiness detection and alerting systems that aim to reduce drowsy driving. NHTSA proposes to collect information from licensed young drivers to determine (1) their eligibility to participate in a study evaluating systems designed to detect and mitigate drowsy driving, (2) their driving performance during a simulated driving task to measure drowsiness mitigation system effectiveness, and (3) their opinions about the safety systems and their perceptions of the benefits. NHTSA will collect information about age, sex, driver license status, sleep and caffeine habits, and driving habits from an estimated 120 young drivers through a one-time, voluntary telephone interview to determine their eligibility for this study. NHTSA will then invite 85 qualified young drivers to report to the simulator to complete an informed consent form and other screening activities including a ten-minute practice drive in the simulator and an assessment of propensity for simulator sickness. NHTSA expects that 75 young drivers will pass the screening and will report for the overnight study, which includes a four-hour drive in the simulator. This collection is solely reporting, and there are no record-keeping costs to the respondents. NHTSA will use the information to produce a technical report that presents the results of the study. The technical report will provide aggregate (summary) statistics and tables as well as the results of statistical analysis of the information, but it will not include any personal information. The technical report will be shared with vehicle manufacturers and suppliers as well as other stakeholders interested in improving traffic safety by decreasing drowsy driving. The total estimated burden for qualifying 120 participants (30 hours), for screening 85 participants (85 hours) and for 75 participants to complete the study (713 hours) is 828 total hours.

Comments Are Invited on the Following

(i) Whether the proposed collection of information is necessary for the proper performance of the functions of the agency, including whether the information will have practical utility;

(ii) The accuracy of the Department's estimate of the burden of the proposed information collection;

(iii) Ways to enhance the quality, utility and clarity of the information to be collected; and

(iv) Ways to minimize the burden of the collection of information on respondents, including the use of automated collection techniques or other forms of information technology.

A comment to OMB is most effective if OMB receives it within 30 days of publication of this notice.

Authority: 44 U.S.C. Section 3506(c)(2)(A).

Issued in Washington, DC, on August 3, 2018.
Jeff Michael,
Associate Administrator, Research and Program Development.

[FR Doc. 2018-16950 Filed 8-7-18; 8:45 am]

BILLING CODE 4910-59-P